DEPARTMENT OF AGRICULTURE

Grain Inspection, Packers and Stockyards Administration

Solicitation of Nominations for Members of the Grain Inspection Advisory Committee

AGENCY: Grain Inspection, Packers and Stockyards Administration, USDA.

ACTION: Notice to solicit nominees.

SUMMARY: The Grain Inspection, Packers and Stockyards Administration (GIPSA) is announcing that nominations are being sought for persons to serve on GIPSA's Grain Inspection Advisory Committee.

DATES: Form AD-755 must be received not later than December 6, 2005.

ADDRESSES: Completed AD-755 forms should be submitted to:

• E-Mail: Send form AD-755 via electronic mail to Terri.L.Henry@usda.gov.

• Mail: Send hardcopy of completed form to Terri Henry, GIPSA, USDA, 1400 Independence Ave., SW., Room 1647-S, Stop 3604, Washington, DC 20250-3604.

• Fax: Send form AD-755 by facsimile transmission to: (202) 690-6755.

• Hand Delivery or Courier: Deliver form AD-755 to: Terri Henry, GIPSA, USDA, 1400 Independence Ave., SW., Room 1647-S, Stop 3604, Washington, DC 20250-3604.

SUPPLEMENTARY INFORMATION: Under authority of section 21 of the United States Grain Standards Act (Act) as amended, the Secretary of Agriculture established the Grain Inspection Advisory Committee (Advisory Committee) on September 29, 1981, to provide advice to GIPSA's Administrator on implementation of the Act. Section 21 of the United States Grain Standards Act Amendments of 2000, Public Law 106-580, extended the authority for the Advisory Committee through September 30, 2015.

The Advisory Committee presently consists of 15 members, appointed by the Secretary, who represent the interests of grain producers, processors, handlers, merchandisers, consumers, and exporters, including scientists with expertise in research related to the policies in section 2 of the Act. Members of the Advisory Committee serve without compensation. They are reimbursed for travel expenses, including per diem in lieu of subsistence, for travel away from their homes or regular places of business in performance of Advisory Committee service, as authorized under section 5703 of title 5, United States Code. Alternatively, travel expenses may be paid by Committee members.

Nominations are being sought for persons to serve on the Advisory Committee to replace the five members and the five alternate members whose terms will expire March 2006.

Persons interested in serving on the Advisory Committee, or in nominating individuals to serve, should contact: GIPSA, by telephone (tel: 202-205-8281), fax (fax: 202-690-2755), or electronic mail (e-mail: Terri.L.Henry@usda.gov) and request Form AD-755. Form AD-755 may also be obtained via the Internet through GIPSA's homepage at http://www.gipsa.usda.gov/advcommittee/ad755.pdf. Nominations are open to all individuals without regard to race, color, religion, sex, national origin, age, mental or physical handicap, marital status, or sexual orientation. To ensure that recommendations of the Committee take into account the needs of the diverse groups served by the Department, membership shall include, to the extent practicable, individuals with demonstrated ability to represent minorities, women, and persons with disabilities.

The final selection of Advisory Committee members and alternates will be made by the Secretary.

JoAnn Waterfield,
Acting Administrator, Grain Inspection, Packers and Stockyards Administration.

[FR Doc. 05-20165 Filed 10-6-05; 8:45 am]

BILLING CODE 3410-EN-P